DEPARTMENT OF HOMELAND SECURITY

U.S. Customs and Border Protection

[CBP Dec. No. 16-04]

Expansion of Global Entry Eligibility to All Citizens of the Federal Republic of Germany

AGENCY: U.S. Customs and Border Protection; Department of Homeland Security.

ACTION: General notice.

SUMMARY: U.S. Customs and Border Protection (CBP) has established the Global Entry international trusted traveler program at most major U.S. airports. Global Entry allows pre-approved participants dedicated CBP processing into the United States using Global Entry kiosks located at designated airports. In 2013, CBP announced a limited pilot program through which certain citizens of the Federal Republic of Germany (Germany) were eligible to apply for participation in the Global Entry program. This document announces that CBP is concluding the pilot and expanding eligibility in the Global Entry program to include all German citizens. Additionally, this document announces that certain U.S. citizens may apply for membership in EasyPASS, Germany's registered traveler program.

DATES: Global Entry eligibility will be expanded to German citizens on February 16, 2016. Applications will be accepted beginning February 16, 2016.

FOR FURTHER INFORMATION CONTACT: Larry Panetta, Office of Field Operations, (202) 344-1253, Larry.A.Panetta@cbp.dhs.gov.

SUPPLEMENTARY INFORMATION:

Background

Global Entry Program

Global Entry is a voluntary program that allows for dedicated CBP processing of pre-approved travelers arriving in the United States at Global Entry kiosks located at designated airports. On February 6, 2012, CBP issued the final rule that promulgated the regulation (8 CFR 235.12) to establish Global Entry as an ongoing voluntary regulatory program in the Federal Register (77 FR 5681). The final rule contains a detailed description of the program, the eligibility criteria, the application and selection process, and the initial airport locations. Travelers who wish to participate in Global Entry must apply via the Global On-Line Enrollment System (GOES) Web site, https://goes-app.cbp.dhs.gov, and pay the applicable fee. Applications for Global Entry must be completed and submitted electronically.

Eligibility for participation in Global Entry is limited to U.S. citizens, U.S. nationals, U.S. lawful permanent residents, and certain nonimmigrant aliens from countries that have entered into arrangements with CBP regarding international trusted traveler programs. Specifically, the regulation provides that certain nonimmigrant aliens from countries that have entered into arrangements with CBP concerning international trusted traveler programs may be eligible to apply for participation in Global Entry after CBP announces the arrangement by publication of a notice in the Federal Register. The notice will include the country, the scope of eligibility of nonimmigrant aliens from that country (e.g., whether only citizens of the foreign country or citizens and non-citizens are eligible) and other conditions that may apply based on the terms of the arrangement. See 8 CFR 235.12(b)(1)(ii). In the preamble of the Global Entry final rule, CBP recognized the existence of previous arrangements it had with Mexico and the Netherlands regarding the international trusted traveler programs and announced that Mexican nationals and certain citizens of the Netherlands were eligible to apply for the Global Entry program. CBP further specified that Mexican nationals and citizens of the Netherlands who were existing participants in the Global Entry pilot would be automatically enrolled in the ongoing Global Entry program. CBP also stated that pursuant to a previous Federal Register notice,¹ participants in NEXUS and certain participants in SENTRI would still be allowed to use the Global Entry kiosks.

¹ See the Utilization of Global Entry Kiosks by NEXUS and SENTRI Participants Federal Register notice, December 29, 2010 (75 FR 82202) for further information.

In a notice published in the Federal Register (78 FR 48706) on August 9, 2013, CBP expanded Global Entry eligibility to include citizens of the Republic of Korea who are participants in the Smart Entry System (SES), a trusted traveler program for pre-approved, low-risk travelers at designated airports in the Republic of Korea via the use of e-gates; a limited number of citizens of the State of Qatar; and a limited number of citizens of the United Kingdom who frequently travel to the United States.

In a notice published in the Federal Register (80 FR 1509) on January 12, 2015, CBP expanded Global Entry eligibility to include citizens of the Republic of Panama. Additionally, this document announced that U.S. citizens who participate in Global Entry or U.S. citizens who can utilize Global Entry kiosks as NEXUS or SENTRI participants have the option to apply for membership in Panama Global Pass, the Republic of Panama's trusted traveler program.

Limited Global Entry Pilot for Certain German Citizens

In the August 9, 2013 notice referenced in the previous section, CBP also announced a limited Global Entry pilot program allowing certain German citizens to apply for Global Entry. This pilot program allowed certain German citizens who participated in ABG Plus, Germany's former trusted traveler program, to apply for participation in Global Entry.² During this limited pilot, German citizens who were identified as potentially being eligible for participation in the pilot program received a promotional code and information about the program from the German government. The United States and Germany limited the number of citizens who could apply for Global Entry to allow for the development of the program's infrastructure. The notice stated that CBP expected to be able to expand eligiblility to include all German citizens in the near future and that such an expansion would be announced by notice in the Federal Register and on http://www.globalentry.gov.

² ABG Plus has since been discontinued.

Expansion of Global Entry Program to Include All Citizens of Germany

This document announces that pursuant to the Joint Declaration signed by U.S. Department of Homeland Security, CBP, and the Federal Ministry of the Interior of the Federal Republic of Germany on April 14, 2010, CBP is expanding Global Entry eligibility to include all German citizens in accordance with the terms and conditions set forth below. As a result, CBP is concluding the limited pilot program. All pilot participants will continue their Global Entry membership for the initial five-year membership period. If pilot participants want to renew their membership when their initial Global Entry membership expires, the renewal will be subject to the terms and conditions set forth below.

Terms and Conditions

Any German citizen may apply for Global Entry. Unlike the pilot, a German citizen does not have to participate in ABG Plus to be eligible to apply for Global Entry. As noted in the previous section, Germany's ABG Plus trusted traveler program has been discontinued.

Before a German citizen can apply for Global Entry, he or she must visit an EasyPASS ³ enrollment center in Germany and complete a thorough risk assessment by the German Federal Police. The list of EasyPASS enrollment center locations is available at http://www.easypass.de/EasyPass/EN/EasyPASS-RTP/rtp_node.html. After a German citizen is vetted for Global Entry by the German Federal Police, the German Federal Police will notify both CBP and the applicant that the applicant is eligible to apply for Global Entry. Then the applicant will be required to complete the online application for Global Entry located on the GOES Web site, pay the non-refundable Global Entry fee, and satisfy all the requirements of Global Entry. The applicant will be permitted to participate in Global Entry only upon successful completion of a risk assessment by CBP and completion of an interview with a CBP officer. If an applicant is not vetted by the German Federal Police prior to applying to Global Entry through GOES, the Global Entry application will not be processed. The vetting criteria were mutually agreed upon by both agencies and are consistent with each agency's applicable domestic laws and policies. CBP will notify the applicants whether or not they have been accepted in the Global Entry program.

³ EasyPASS is an automated border control process available to registered third-country nationals when entering Germany.

Applicants may be denied enrollment in the Global Entry program for various reasons. An individual who is inadmissible to the United States under U.S. immigration law or has, at any time, been granted a waiver of inadmissibility or parole is ineligible to participate in Global Entry. Applications from such individuals will automatically be rejected. Applications for Global Entry may also be rejected if the applicant has ever been arrested for, or convicted of, a criminal offense, or if the individual has ever been found in violation of customs or immigration laws, or of any criminal law. Additionally, an applicant will not be accepted for participation in Global Entry if CBP determines that the applicant presents a potential risk of terrorism, or criminality (including smuggling), or if CBP cannot sufficiently determine that the applicant meets all the program eligibility criteria. The eligibility criteria are set forth in more detail in the Global Entry final rule and 8 CFR 235.12. See also http://www.globalentry.gov.

Validity Period

Global Entry has a five-year membership period. After the second year of membership, German citizens will be notified by CBP, via email, that they must again visit an EasyPASS enrollment center and be vetted by the German Federal Police. If a German citizen Global Entry member fails to be vetted by the German Federal Police within the allotted time, Global Entry membership will be terminated. These additional vetting requirements are not applicable to pilot participants during their initial five-year Global Entry membership.

U.S. Citizens' Participation in EasyPASS

Any U.S. citizen, 18 years of age or older, has the option to enroll in EasyPASS. EasyPASS is a registered traveler program in Germany that provides expedited entry into the country via the use of eGates, an automated border control system that uses facial recognition for biometric verification of the individual's identity. Consequently, an ePassport is required for EasyPASS. A U.S. citizen does not have to be a member of a CBP trusted traveler program to apply for EasyPASS.

U.S. applicants may apply for EasyPASS at an EasyPASS enrollment center in Germany. U.S. applicants must register for EasyPASS directly with the Government of Germany. There is currently no fee associated with EasyPASS. The applicant will be notified immediately at the enrollment center about whether he or she is approved for EasyPASS. The limited number of U.S. citizens who enrolled in ABG Plus, under the eligibility conditions described in the August 9, 2013 Federal Register notice, have been automatically enrolled in EasyPASS. More information about how to apply for EasyPASS and about the program is available at http://www.easypass.de/EasyPass/EN/EasyPASS-RTP/rtp_node.html.

Dated: February 10, 2016.
Todd C. Owen,
Assistant Commissioner, Office of Field Operations.

[FR Doc. 2016-03030 Filed 2-12-16; 8:45 am]

BILLING CODE 9111-14-P